DEPARTMENT OF COMMERCE

Bureau of Export Administration

National Security Assessment of the U.S. Maritime Industry

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before February 4, 2002.

ADDRESSES: Direct all written comments to Madeleine Clayton, DOC Paperwork Clearance Officer, (202) 482-3129, Department of Commerce, Room 6086, 14th and Constitution Avenue, NW, Washington, DC 20230.

FOR FURTHER INFORMATION CONTACT: Requests for additional information or copies of the information collection instrument(s) and instructions should be directed to Dawnielle Battle, BXA ICB Liaison, (202) 482-0637, Bureau of Export Administration (BXA), Department of Commerce, Room 6877, 14th and Constitution Avenue, NW, Washington, DC 20230.

SUPPLEMENTARY INFORMATION

I. Abstract

Commerce/BXA, in coordination with the Department of the Navy, Carderock Division, and the Department of Transportation, Maritime Administration is conducting a survey of the U.S. maritime industry in order to assess the health and competitiveness as well as the technology requirements of the forms that comprise this critical sector.

II. Method of Collection

The information will be collected using a non-recurring, mandatory survey. It will be collected in written form.

III. Data

The survey will collect information on the nature of the business performed by each firm; estimated sales and employment data; financial information; research and development expenditures and funding sources; capital expenditures and funding sources; competitiveness issues and technology requirements.

OMB Number: 0694-0113.

Form Number: N/A.

Type of Review: Regular Submission.

Affected Public: The vendor, supplier and manufacturer base of the U.S. Maritime industry.

Estimated Number of Respondents: 2,000.

Estimated Time Per Response: 4.0 hours.

Estimated Total Annual Burden Hours: 8,000 hours.

Estimated Total Annual Cost: No equipment or other materials will need to be purchased to comply with the requirement.

IV. Request for Comments

Comments are invited on: (a) Whether the proposed collection of information is necessary for the proper performance of the function of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 3, 2001.
Madeleine Clayton,
Departmental Paperwork Clearance Officer, Office of the Chief Information Officer.

[FR Doc. 01-30296 Filed 12-5-01; 8:45 am]

BILLING CODE 3510-33-P